DEPARTMENT OF STATE

[Public Notice: 11703]

60-Day Notice of Proposed Information Collection: Electronic Medical Examination for Visa or Refugee Applicant

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 21, 2022.

ADDRESSES: You may submit comments by any of the following methods:

• Web: Persons with access to the internet may comment on this notice by going to www.Regulations.gov. You can search for the document by entering “Docket Number: DOS-2022-0009 in the Search field. Then click the “Comment Now” button and complete the comment form.

• Email: PRA_BurdenComments@state.gov.

You must include the DS form number (if applicable), information collection title, and the OMB control number in the title or body of any correspondence. You should not submit case inquiries to either of the methods listed above. You should not include case numbers in any comment submitted via www.regualtions.gov.

FOR FURTHER INFORMATION CONTACT: Direct requests for additional information regarding the collection listed in this notice, including requests for copies of the proposed collection instrument and supporting documents, to Tonya Whigham, who may be reached at PRA_BurdenComments@state.gov or at 202-485-7635.

SUPPLEMENTARY INFORMATION: • Title of Information Collection: Electronic Medical Examination for Visa Applicant or Refugee Applicant.

• OMB Control Number: 1405-0230.

• Type of Request: Extension of a Currently Approved Collection.

• Originating Office: Bureau of Consular Affairs, Visa Office (CA/VO).

• Form Number: DS-7794.

• Respondents: Visa Applicants; Follow-to-Join Refugee/Asylum Applicants; Parole Applicants with Boarding Foils.

• Estimated Number of Respondents: 1,100,000.

• Estimated Number of Responses: 1,100,000.

• Average Time per Response: 1 hour.

• Total Estimated Burden Time: 1,100,000 annual hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This electronic collection records medical information necessary to determine whether visa applicants have medical conditions affecting the applicants' eligibility for a visa. This collection is also used to collect medical examination information from follow-to-join refugees and certain individuals who have been paroled into or are seeking parole into the United States.

Methodology

Approved panel physicians are granted access to an eMedical system by the Department to conduct medical examinations for determinations of eligibility for visas and other immigration benefits. The panel physician inputs the exam information into the eMedical portal, and it is transmitted to the Department for visa adjudication, follow-to-join refugee adjudication, and for the purpose of issuing boarding foils for certain individuals seeking parole from the Department of Homeland Security and is thereafter retained in the Department's systems. The information is also transmitted to the Centers for Disease Control and Prevention's (“CDC”) systems. In some instances, if the individual has been admitted to the United States as a parolee or is seeking parole into the United States, the information is transmitted directly to the CDC, bypassing the Department. In relation to parolees, the data that is transmitted to the U.S. Government depends on the nature of parole as determined by the Department of Homeland Security.

Kevin E. Bryant,
Deputy Director, Office of Directives Management, Department of State.

[FR Doc. 2022-08537 Filed 4-20-22; 8:45 am]

BILLING CODE 4710-06-P